DEPARTMENT OF DEFENSE

Department of the Army

Department of Defense (DoD) Task Force on Mental Health; Meeting

AGENCY: Department of the Army; DoD.

ACTION: Notice of meeting.

SUMMARY: In accordance with section 10(a)(2) of Public Law 92-463, The Federal Advisory Committee Act, announcement is made of the following meeting:

Name of Committee: DoD Task Force on Mental Health, a Subcommittee of the Defense Health Board.

Dates: November 21, 2006 (Afternoon—Open Session).

Times: 1-5 p.m.

Location: Double Tree Hotel, 835 Airport Blvd., Burlingame, CA.

Agenda: The purpose of the meeting is to obtain, review, and evaluate information related to the Mental Health Task Force's congressionally-directed tasks of assessing the efficacy of mental health services provided to members of the Armed Forces by the Department of Defense. The Task Force members will receive briefings on topics related to mental health concerns among military service members and mental health care delivery. The Task Force will hold an open meeting session to hear concerns from the San Francisco Veterans, Reserve and National Guard communities, conduct information gathering site visits to the National Center for Post Traumatic Stress Disorder and the San Francisco Veterans Administration Hospital, and conduct an executive working session.

FOR FURTHER INFORMATION CONTACT: Colonel Roger Gibson, Executive Secretary, Armed Forces Epidemiologic Board, Skyline One, 5205 Leesburg Pike, Room 810, Falls Church, VA 22041, (703) 681-3279, ext. 123.

SUPPLEMENTARY INFORMATION: Sessions on the afternoon of November 21, 2006 will be open to the public in accordance with Section 552b(b) of Title 5, U.S.C., specifically subparagraph (1) thereof and Title 5, U.S.C., appendix 1, subsection 10(d). Open sessions of the meeting will be limited by space accommodations. Any interested person may attend, appear before or file statements with the Board at the time and in the manner permitted by the Board.

Brenda S. Bowen,
Army Federal Register Liaison Officer.

[FR Doc. 06-9050 Filed 11-2-06; 8:45 am]

BILLING CODE 3710-08-M